DEPARTMENT OF AGRICULTURE

Rural Business-Cooperative Service

[Docket #: RBS-24-BUSINESS-0005]

Notice of Funding Opportunity for the Delta Health Care Services Grant Program for Fiscal Year 2024

AGENCY: Rural Business-Cooperative Service, USDA.

ACTION: Notice.

SUMMARY: This Notice of Funding Opportunity (Notice) announces that the Rural Business-Cooperative Service (RBCS, Agency) is accepting fiscal year (FY) 2024 applications for the Delta Health Care Services (DHCS) grant program. The purpose of this program is to provide financial assistance to address the continued unmet health needs in the Delta Region through cooperation among health care professionals, institutions of higher education, research institutions, and economic development entities in the Delta Region. There is $3,046,583 currently available for FY 2024. Ten percent of funds must support projects located in persistent poverty counties in the Delta Region and as described under paragraph A.2.b. in the Overview section of this Notice. All applicants are responsible for any expenses incurred in developing their applications.

DATES: Completed applications must be submitted electronically by no later than 11:59 p.m. Eastern Time August 12, 2024 through grants.gov to be eligible for grant funding. Late or incomplete applications will not be eligible for funding.

ADDRESSES: This funding announcement will also be announced on grants.gov. Applicants are encouraged to contact their respective United States Department of Agriculture (USDA) Rural Development (RD) State Office well in advance of the application deadline to discuss their Project and ask any questions about the application process. Contact information for RD State Offices can be found at rd.usda.gov/contact-us/state-offices. Applicants may obtain program guidance and application tools from rd.usda.gov/programs-services/delta-health-care-services-grants.

To submit an application, follow the instructions for the DHCS funding announcement located at grants.gov. Please review the Grants.gov website at grants.gov/register for instructions on the process of registering your organization as soon as possible to ensure you are able to meet the application deadline. You are strongly encouraged to file your application early and allow sufficient time to manage any technical issues that may arise.

FOR FURTHER INFORMATION CONTACT: Honie Turner, Business Loan and Grant Analyst at honie.turner@usda.gov, Program Management Division, RBCS, USDA, 1400 Independence Avenue SW, Washington, DC 20250-3226; or call 202-720-1400 or email CPgrants@usda.gov.

For further information on program requirements under this Notice, please contact the USDA RD State Office in the state where the applicant's headquarters is located. A list of RD State Office contacts is provided at the following link: rd.usda.gov/about-rd/state-offices.

SUPPLEMENTARY INFORMATION:

Overview

Federal Awarding Agency Name: Rural Business-Cooperative Service (RBCS).

Funding Opportunity Title: Delta Health Care Services Grant Program (DHCS).

Announcement Type: Notice of Funding Opportunity (NOFO).

Funding Opportunity Number: RDBCP-DHCS-2024.

Assistance Listing: 10.874.

Dates: Electronic applications must be received by grants.gov no later than 11:59 p.m. Eastern Time August 12, 2024, or it will not be considered for funding.

Rural Development Key Priorities: The Agency encourages applicants to consider projects that will advance the key priorities (more details available at rd.usda.gov/priority-points):

• Addressing Climate Change and Environmental Justice; Reducing climate pollution and increasing resilience to the impacts of climate change through economic support to rural communities.

• Advancing Racial Justice, Place-Based Equity, and Opportunity; Ensuring all rural residents have equitable access to RD programs and benefits from RD funded projects.

• Creating More and Better Opportunities; Assisting rural communities recover economically through more and better market opportunities and through improved infrastructure.

A. Program Description

1. Purpose of the Program. The primary objective of the program is to provide financial assistance to address the continued unmet health needs in the Delta Region through cooperation among health care professionals, institutions of higher education, research institutions, and other individuals and entities in the Delta Region. Grants are awarded on a competitive basis.

2. Statutory and Regulatory Authority.

(a) Statutory. The DHCS program is authorized by section 379G of the Consolidated Farm and Rural Development Act (7 U.S.C. 2008u).

(b) Persistent Poverty Counties. The Consolidated Appropriations Act, 2024 (Pub. L. 118-42), division B, title VII, section 736 (section 736), allocates funding for projects in Persistent Poverty Counties. Persistent Poverty Counties as defined in section 736 is “any county that has had 20 percent or more of its population living in poverty over the past 30 years, as measured by the 1990 and 2000 decennial censuses, and 2007-2011 American Community Survey 5-year average, or any territory or possession of the United States[.]” Another provision in section 736 expands the eligible population in Persistent Poverty Counties to include any county seat of such a Persistent Poverty County that has a population that does not exceed the authorized population limit by more than 10 percent. Therefore, applications for projects in Persistent Poverty County seats with populations up to 55,000 (per the 2020 Census) are eligible. Funding in the amount of $346,583 will be allocated to support Persistent Poverty Counties out of the total available funding of $3,046,584.

3. Definitions.

Academic Health and Research Institute—A combination of a medical school, one or more other health profession schools or educational training programs (such as allied health, dentistry, graduate studies, nursing, pharmacy, or public health), and one or more owned or affiliated teaching or health systems; or a health care nonprofit organization or health system, including nonprofit medical and surgical hospitals, that conduct health related research.

Conflict of Interest—A situation in which a person or entity has competing personal, professional, or financial interests that make it difficult for the person or business to act impartially. Federal procurement standards prohibit transactions that involve a real or apparent conflict of interest for owners, employees, officers, agents, or their immediate family members having a financial or other interest in the outcome of the Project; or that restrict open and free competition for unrestrained trade. Specifically, Project Funds may not be used for services or goods going to, or coming from, a person or entity with a real or apparent conflict of interest, including, but not limited to, owner(s) and their immediate family members. An example of a conflict of interest includes when the consortium member's employees, board of directors, or the immediate family of either, have the appearance of a professional or personal financial interest in the recipients receiving the benefits or services of the grant.

Consortium—A group of three or more entities that are regional Institutions of Higher Education, Academic Health and Research Institutes, and/or Economic Development Entities located in the Delta Region that have at least one year of prior experience addressing the health care issues in the region. At least one of the consortium members must be legally organized as an incorporated organization or other legal entity and have legal authority to contract with the Federal Government.

Delta Region—The 252 counties and parishes within the states of Alabama, Arkansas, Illinois, Kentucky, Louisiana, Mississippi, Missouri, and Tennessee that are served by the Delta Regional Authority. To view the areas identified within the Delta Region visit dra.gov/about-dra/dra-states.

Economic Development Entity—Any public or non-profit organization whose primary mission is to stimulate local and regional economies within the Delta Region by increasing employment opportunities and duration of employment, expanding or retaining existing employers, increasing labor rates or wage levels, reducing outmigration, and/or creating gains in other economic development-related variables such as land values. These activities shall primarily benefit low- and moderate-income individuals in the Delta Region.

Health System—The complete network of agencies, facilities, and all providers of health care to meet the health needs of a specific geographical area or target population.

Institution of Higher Education—A postsecondary (post-high school) educational institution that awards a bachelor's degree or provides not less than a two-year program that is acceptable for full credit toward such a degree, or a postsecondary vocational institution that provides a program of training to prepare students for gainful employment in a recognized occupation.

Nonprofit Organization—Any organization or institution, including an accredited institution of higher education, no part of the net earnings of which may inure, to the benefit of any private shareholder or individual.

Project—All activities funded by the DHCS grant.

Project Funds—Grant funds requested plus any other contributions to the proposed Project.

Rural and rural area—Includes (1) Any area of a State other than (a) a city or town that has a population of more than 50,000 inhabitants, according to the latest decennial census of the United States and (b) any urbanized area contiguous and adjacent to a city or town described in (a); and (2) Urbanized areas that are rural in character as defined by 7 U.S.C. 1991(a)(13). For the purposes of this definition, cities and towns are incorporated population centers with definite boundaries, local self-government, and legal powers set forth in a charter granted by the State.

State—Includes each of the 50 States, the Commonwealth of Puerto Rico, the Virgin Islands of the United States, Guam, American Samoa, the Commonwealth of the Northern Mariana Islands, and, as may be determined by the Secretary to be feasible, appropriate and lawful, the Federated States of Micronesia, the Republic of the Marshall Islands, and the Republic of Palau.

4. Application of Awards. The Agency will review, evaluate, and score applications received in response to this Notice. Awards under the DHCS Program will be made on a competitive basis.

B. Federal Award Information

Type of Award: Grant.

Fiscal Year Funds: FY 2024.

Available Funds: $3,046,584. RBCS may at its discretion, increase the total level of funding available in this funding round from any available source provided the awards meet the requirements of the statute which made the funding available to the Agency.

Award Amounts: The minimum award amount is $50,000 and the maximum award amount is $1,000,000.

Anticipated Award Date: September 30, 2024.

Performance Period: Up to 24 months.

Type of Assistance Instrument: Financial Assistance Agreement (Grant Agreement).

C. Eligibility Information

1. Eligible Applicants. Applicants must meet all the following eligibility requirements. Your application will not be considered for funding if it does not provide sufficient information to determine eligibility or is missing required elements. Applicants that fail to submit the required elements by the application deadline will be deemed ineligible and will not be evaluated further. Information submitted after the application deadline will not be accepted. Grants funded through DHCS may be made to a Consortium as defined in section A.3 of this Notice. One member of the Consortium must be designated as the lead entity by the other members of the Consortium and have legal authority to contract with the Federal Government.

The lead entity is the recipient (see 2 CFR 200.1) of the DHCS grant funds and accountable for monitoring and reporting on the Project performance and financial management of the grant. It is expected that the recipient will make subawards in the form of a grant, cooperative agreement, or contract, as appropriate, to the other members of the Consortium. If a grant or cooperative agreement is awarded, the organization receiving the subaward is a subrecipient (see 2 CFR 200.1) and the recipient is responsible for complying with all applicable requirements of 2 CFR part 200, including provisions for making and monitoring an award. If a contract is awarded, the organization receiving the subaward is a contractor, and the recipient is responsible for following its written procurement procedures and complying with the Federal Acquisition Regulation. Both subrecipients and contractors are required to comply with all applicable laws and regulations, including performance and financial reporting, as described in their award document.

(a) An applicant is ineligible if they do not submit Evidence of Eligibility and Consortium Agreements as described in section D.2 of this Notice.

(b) An applicant is ineligible if they have been debarred or suspended or otherwise excluded from or ineligible for participation in Federal assistance programs under Executive Order 12549, Debarment and Suspension. In addition, an applicant will be considered ineligible for a grant due to an outstanding judgment obtained by the U.S. in a Federal Court (other than U.S. Tax Court), is delinquent on the payment of Federal income taxes, or is delinquent on Federal debt. The applicant must certify as part of the application that they do not have an outstanding judgment against them. The Agency will check the DO NOT PAY system to verify if the applicant has been debarred or suspended or has an outstanding judgment against them.

(c) Any corporation (1) that has been convicted of a felony criminal violation under any Federal law within the past 24 months or (2) that has any unpaid Federal tax liability that has been assessed, for which all judicial and administrative remedies have been exhausted or have lapsed, and that is not being paid in a timely manner pursuant to an agreement with the authority responsible for collecting the tax liability, is not eligible for financial assistance provided with funds appropriated by the Further Consolidated Appropriations Act, 2024 (Pub. L. 118-47), division B, title VII, sections 744 and 745 unless a Federal agency has considered suspension or debarment of the corporation and has made a determination that this further action is not necessary to protect the interests of the Government.

(d) Applications will be deemed ineligible if the application includes any funding restrictions identified under section D.6.

2. Cost Sharing or Matching. There are no cost sharing or matching requirements associated with this grant. However, if you are adding any other contributions to the proposed Project, you must provide documentation indicating who will be providing the matching funds, the amount of funds, when those funds will be provided, and how the funds will be used in the Project budget. Examples of acceptable documentation include: a signed letter from the source of funds stating the amount of funds, when the funds will be provided, and what the funds can be used for or a signed resolution from your governing board authorizing the use of a specified amount of funds for specific components of the Project. The matching funds you identify must be for eligible purposes and included in your work plan and budget. Additionally, expected program income may not be used as matching funds at the time you submit your application. If you choose, you may use a template to summarize the matching funds. The template is available either from your RD State Office or the program website at: rd.usda.gov/programs-services/delta-health-care-services-grants.

3. Other.

(a) Use of Funds. Your application must propose to use Project Funds for eligible purposes. Eligible Project purposes include the development of: (1) health care services; (2) health education programs; (3) health care job training programs; and (4) the development and expansion of public health-related facilities in the Delta Region.

(b) Project Eligibility. The proposed Project must take place within the Delta Region as defined in this Notice. However, the applicant need not propose to serve the entire Delta Region. The Agency will allocate at least ten percent of available funds to support projects located in persistent poverty counties as described in paragraph A.2.(b) of the Overview section. The application must identify if the Project will be located in a persistent poverty county, or counties and the total Project Funds associated with supporting persistent poverty counties.

(c) Project Input. Your proposed Project must be developed based on input from local governments, public health care providers, and other entities in the Delta Region.

(d) Grant Period Eligibility. All awards are limited to up to a 24-month grant period based upon the complexity of the Project. Your proposed grant period should begin no earlier than October 1, 2024, and should end no later than 24 months following that date. If you receive an award, your grant period will be revised to begin on the actual date of award—the date the financial assistance agreement is executed by the Agency—and your grant period end date will be adjusted accordingly. Your Project activities must begin within 90 days of the date of award. If you request funds for a time period beginning before October 1, 2024, and/or ending later than 24 months from that date, your application will be ineligible. The length of your grant period should be based on your Project's complexity, as indicated in your application work plan.

(e) Multiple Application Eligibility. The Consortium, including its members, is limited to submitting one application for funding under this Notice. We will not accept applications from Consortiums that include members who are also members of other Consortiums that have submitted applications for funding under this Notice. If we discover that a Consortium member is a member of multiple Consortiums with applications submitted for funding under this Notice, all applications will be considered ineligible for funding.

(f) Satisfactory Performance Eligibility. If you have an existing DHCS award, you must be performing satisfactorily to be considered eligible for a new DHCS award. Satisfactory performance includes being up to date on all financial and performance reports as prescribed in the grant award, and current on tasks and timeframes for utilizing grant and matching funds as approved in the work plan and budget. If you have any unspent grant funds on DHCS awards made prior to FY 2021 your application will not be considered for funding. If your FY 2022 or FY 2023 award has unspent funds of 50 percent or more than what your approved work plan and budget projected at the time your FY 2024 application is evaluated, your application may not be considered for funding. The Agency will verify the performance status of FY 2022 and FY 2023 awards and make a determination after the FY 2024 application period closes.

(g) Completeness Eligibility. Your application must provide all the information requested in section D.2. of this Notice. Applications lacking sufficient information to determine eligibility and scoring will be deemed ineligible and will not be considered for scoring.

(h) Indirect Costs. Your negotiated indirect cost rate approval does not need to be included in your application, but you will be required to provide it if a grant is awarded. Approval for indirect costs that are requested in an application without an approved indirect cost rate agreement is at the discretion of the Agency.

D. Application and Submission Information

1. Address to Request Application Package. The application guide and necessary forms are available at grants.gov. Additionally, the application guide, general program information, and other application tools for this funding opportunity is located at rd.usda.gov/programs-services/delta-health-care-services-grants. Use of the application guide is strongly recommended to assist you with the application process. You may also contact your RD State Office for more information. Contact information for RD State Offices is located at rd.usda.gov/contact-us/state-offices.

2. Content and Form of Application Submission. You must submit your application electronically through grants.gov. Your application must contain all required information. To apply, you must follow the instructions for this funding announcement at grants.gov. Please note that we cannot accept applications through mail, courier delivery, in-person delivery, email, or fax. Paper applications are not accepted.

You can locate the Grants.gov downloadable application package for this program by using a keyword, the program name, or the Assistance Listing Number for this program. When you enter the Grants.gov website, you will find information about applying electronically through the site, as well as the hours of operation.

You must submit all application documents electronically through Grants.gov. Applications must include electronic signatures. Original signatures may be required if funds are awarded. After applying electronically through Grants.gov, you will receive an automatic acknowledgement from Grants.gov that contains a Grants.gov tracking number.

The organization submitting the application will be considered the lead entity. The Contact/Program Manager must be associated with the lead entity submitting the application.

Your application must also contain the following required forms and proposal elements:

(a) Form SF-424, Application for Federal Assistance. The application for Federal assistance must be completed by the lead entity as described in section C.1. of this Notice. Your application must include your Unique Entity Identifier (UEI) and System for Award Management (SAM) Commercial code and expiration date (or evidence that you have begun the SAM registration process). If you do not include the expiration date and the UEI in your application, it will not be considered for funding. The form must be signed by an authorized representative.

(b) Form SF-424A, Budget Information—Non-Construction Programs. This form must be completed and submitted as part of the application package.

(c) Form SF-424C, Budget Information—Construction Programs. This form must be completed, signed, and submitted as part of the application package for construction Projects.

(d) Executive Summary. A summary of the proposal, not to exceed one page, briefly describing the Project, tasks to be completed, and other relevant information that provides a general overview of the Project must be provided.

(e) Evidence of Eligibility. Evidence of the Consortium's eligibility to apply under this Notice must be provided. This section must include a detailed summary demonstrating that the applicant is a Consortium as defined in paragraph A.3 of this Notice and explain how each Consortium member meets the definition of an eligible entity as defined under section A.3 of this Notice.

(f) Consortium Agreements. The application must include a formal written agreement with each Consortium member that addresses the negotiated arrangements for administering the Project to meet Project goals, the Consortium member's responsibilities to comply with administrative, financial, and reporting requirements of the grant, including those necessary to ensure compliance with all applicable Federal regulations and policies, and facilitate a smooth functioning collaborative venture. Under the agreement, each Consortium member must perform a substantive role in the Project and not merely serve as a conduit of funds to another party or parties. This agreement must be signed by an authorized representative of the lead entity and an authorized representative of each partnering consortium entity.

(g) Scoring Criteria. Each of the scoring criteria in this Notice must be addressed in narrative form. Failure to address each scoring criterion will result in the application being determined ineligible.

(h) Performance Measures. The Agency has established annual performance measures to evaluate the DHCS program. Estimates on the following performance measures, as part of your application, must be provided:

(1) Number of businesses assisted;

(2) Number of jobs created;

(3) Number of jobs saved; and

(4) Number of individuals assisted/trained.

It is permissible to have a zero in a performance element. When calculating jobs created, estimates should be based upon actual jobs to be created by your organization as a result of the DHCS funding or actual jobs to be created by businesses as a result of assistance from your organization. When calculating jobs saved, estimates should be based only on actual jobs that would have been lost if your organization did not receive DHCS funding or actual jobs that would have been lost without assistance from your organization.

You can also suggest additional performance elements, for example where job creation or jobs saved may not be a relevant indicator. These additional elements should be specific, measurable performance elements that could be included in an award document.

(i) Financial Information and Sustainability. Current financial statements and a narrative description demonstrating sustainability of the Project, all of which show sufficient resources and expertise to undertake and complete the Project and how the Project will be sustained following completion must be provided. Applicants must provide three years of pro-forma financial statements for the Project.

(j) Evidence of Legal Authority and Existence. The lead entity must provide evidence of its legal existence and authority to enter into a grant agreement with the Agency and perform the activities proposed under the grant application.

(k) Service Area Maps. Maps with sufficient detail to show the area that will benefit from the proposed facilities and services and the location of the facilities improved or purchased with grant funds, if applicable, must be provided.

(l) Environmental information necessary to support the Agency's environmental finding. Required information can be found in 7 CFR part 1970, specifically in subparts B and C. These provisions may be found at ecfr.gov/current/title-7/subtitle-B/chapter-XVIII/subchapter-H/part-1970. Construction related activities funded by RD must comply with State and local building codes and 7 CFR part 1924. Depending on the actions anticipated, an appropriate 7 CFR part 1970 compliant environmental document must be submitted and approved, prior to commencement of construction.

3. System for Award Management and assigned Unique Entity Identifier.

(a) At the time of application, each applicant must have an active registration in the SAM before submitting its application in accordance with 2 CFR part 25. To register in SAM, entities will be required to obtain a UEI(a) At the time of application, each applicant must have an active registration in the System for Award Management (SAM) before submitting its application in accordance with 2 CFR 25 (https://www.ecfr.gov/current/title-2/subtitle-A/chapter-I/part-25). In order to register in SAM, entities will be required to obtain a Unique Entity Identifier (UEI). Instructions for obtaining the UEI are available at https://sam.gov/content/entity-registration.

(b) Applicants must maintain an active SAM registration, with current, accurate and complete information, at all times during which it has an active Federal award or an application under consideration by a Federal awarding agency.

(c) Applicants must ensure they complete the Financial Assistance General Certifications and Representations in SAM.

(d) Applicants must provide a valid UEI in their application, unless determined exempt under 2 CFR 25.110 (https://www.ecfr.gov/current/title-2/subtitle-A/chapter-I/part-25/subpart-A/section-25.110).

(e) The Agency will not make an award until the applicant has complied with all SAM requirements including providing the UEI. If an applicant has not fully complied with the requirements by the time the Agency is ready to make an award, the Agency may determine that the applicant is not qualified to receive a Federal award and use that determination as a basis for making a Federal award to another applicant.

4. Submission Date and Time. Completed applications must be submitted electronically to grants.gov by 11:59 p.m. Eastern Time August 12, 2024, to be eligible for funding. Please review the Grants.gov website at grants.gov/register for instructions on the process of registering your organization as soon as possible to ensure you can meet the electronic application deadline. Grants.gov will not accept applications submitted after the deadline. All application documents identified in this Notice are required in the submission to be considered a complete application.

The Agency will not solicit or consider new scoring or eligibility information that is submitted after the application deadline. The Agency reserves the right to contact applicants to seek clarification on materials contained in the submitted application. See the application guide for a full discussion of each item comprising a complete application. For complete application requirements, refer to section D.2 of this Notice.

5. Intergovernmental Review. Executive Order (E.O.) 12372, Intergovernmental Review of Federal Programs, applies to this program. This E.O. requires that Federal agencies provide opportunities for consultation on proposed assistance with State and local governments. Many states have established a Single Point of Contact (SPOC) to facilitate this consultation. For a list of States that maintain a SPOC, please see the White House website: whitehouse.gov/omb/management/office-federal-financial-management/. If your State has a SPOC, you may submit a copy of the application directly for review. Any comments obtained through the SPOC must be provided to your State Office for consideration as part of your application. If your state has not established a SPOC, you may submit your application directly to the Agency.

6. Funding Restrictions. Project funds may not be used for ineligible purposes. In addition, you may not use Project Funds for the following:

(a) To duplicate current services or to replace or to substitute support previously provided, however, Project Funds may be used to expand the level of effort or a service beyond what is currently being provided;

(b) To pay for costs to prepare the application for funding under this Notice;

(c) To pay for costs of the Project incurred prior to the effective date of the period of performance;

(d) To pay expenses for applicant employee training not directly related to the Project;

(e) To fund political activities;

(f) To pay for assistance to any private business enterprise which does not have at least 51 percent ownership by those who are either citizens of the United States or reside in the United States after being legally admitted for permanent residence;

(g) To pay any judgment or debt owed to the United States;

(h) To engage in any activities that are considered a Conflict of Interest, as defined by this Notice; or

(i) To fund any activities prohibited by 2 CFR part 200.

In addition, your application will not be considered for funding if it does any of the following:

(1) Assists a hemp producer without a valid license issued by a State, Tribe or USDA, as applicable, or in accordance with 7 CFR part 990.

(2) Requests more than the maximum grant amount; or

(3) Proposes ineligible costs that equal more than 10 percent of the Project Funds.

The Agency will consider your application for funding if it includes ineligible costs of 10 percent or less of total Project Funds, if it is determined eligible otherwise. However, if your application is successful, those ineligible costs must be removed and replaced with eligible costs before the Agency will make the grant award or the amount of the grant award will be reduced accordingly. If the Agency cannot determine the percentage of ineligible costs, your application will not be considered for funding.

7. Other Submission Requirements. To submit an application, you must follow the instruction for this funding opportunity at grants.gov. A password is not required to access the website. You should not submit your application in more than one format or in more than one submission. Applications will not be accepted if the text is less than 11-point font. Applicants having technical difficulties with submitting an application should contact grants.gov directly. Technical difficulties submitting an application through Grants.gov. will not be a reason to extend the application deadline.

E. Application Review Information

1. Evaluation Criteria. All eligible and complete applications will be evaluated based on the following criteria. Evaluators will base scores only on the information provided or cross-referenced by page number in each individual scoring criterion. DHCS is a competitive program, so you will receive scores based on the quality of your responses. Simply addressing the criteria will not guarantee higher scores. The total points possible for the criteria are 110. The minimum score requirement for funding is 60 points. It is at the Agency's discretion to fund applications with a score of 59 points or less if it is in the best interest of the Federal Government.

(a) Community Needs and Benefits Derived from the Project (maximum of 30 points). A panel of USDA employees will assess how the Project will benefit the residents in the Delta Region. This criterion will be scored based on the documentation in support of the community needs for health services and public health-related facilities and the benefits to people living in the Delta Region derived from the implementation of the proposed Project. It should lead clearly to the identification of the Project participant pool and the target population for the Project and provide convincing links between the Project and the benefits to the community to address its health needs. You must discuss the:

(1) Health care needs/issues/challenges facing the service area and explain how the identified needs/issues/challenges were determined. Discussion should also identify problems faced by the residents in the region.

(2) Proposed assistance to be provided to the service area and how the Project will benefit the residents in the region.

(3) Implementation plan for the Project and provide milestones which are well-defined and can be realistically completed.

(4) Expected outcomes of the proposed Project and how they will be tracked and monitored. You should attempt to quantify benefits in terms of outcomes from the Project; that is, ways in which peoples' lives, or the community, will be improved. Provide estimates of the number of people affected by the benefits arising from the Project.

(b) The Project Management and Organization Capability (maximum of 30 points). A panel of USDA employees will evaluate the Consortium's experience, past performance, and accomplishments addressing health care issues to ensure effective Project implementation. This criterion will be scored based on the documentation of the Project's management and organizational capability. You must discuss:

(1) Your organization's management and fiscal structure including well-defined roles for administrators, staff, and established financial management systems.

(2) Relevant qualifications, capabilities, and educational background of the identified key personnel (at a minimum, the Project Manager) who will manage and implement programs.

(3) Your organization's current successful and effective experience (or demonstrated experience within the past five years) addressing the health care issues in the Delta Region.

(4) Your organization's experience managing grant-funded programs.

(5) The extent to which administrative/management costs are balanced with funds designated for the provision of programs and services.

(6) The extent and diversity of eligible entity types within the applicant's Consortium of regional institutions of higher education, academic health and research institutes, and economic development entities located in the Delta Region.

(c) Work Plan and Budget (maximum of 30 points). You must provide a work plan, construction project scope, if applicable and budget that includes the following: (1) the specific activities, such as programs, services, trainings, and/or construction-related activities for a facility to be performed under the Project; (2) the estimated line item costs associated with each activity, including grant funds and other necessary sources of funds; (3) the key personnel who will carry out each activity (including each Consortium member's role); and (4) the specific time frames for completion of each activity.

An eligible start and end date for the Project and for individual Project tasks must be clearly shown and may not exceed Agency specified timeframes for the grant period. You must show the source and use of both grant and other contributions for all tasks. Other contributions must be spent at a rate equal to, or in advance of, grant funds.

A panel of USDA employees will evaluate your work plan for detailed actions and an accompanying timetable for implementing the proposal. Clear and comprehensive work plans detailing all project goals, tasks, timelines, costs, and responsible personnel in a logical and realistic manner will result in a higher score.

(d) Local Support (maximum 10 points). A panel of USDA employees will evaluate your application for local support of the proposed Project. The application must include documentation detailing support solicited from local government, public health care providers, and other entities in the Delta Region. Evidence of support can include, but is not limited to, surveys conducted amongst Delta Region residents and stakeholders, notes from focus groups, or letters of support from local entities.

(e) Administrator Discretionary Points (maximum of 10 points). The Administrator may choose to award up to 10 points to support geographic distribution of funds and/or key priorities as follows (more details available at rd.usda.gov/priority-points):

(1) Assisting rural communities recover economically through more and better market opportunities and through improved infrastructure. An applicant would receive, priority points if the project is located in or serving a rural community whose economic well-being ranks in the most distressed tier (distress score of 80 or higher) of the Distressed Communities Index using the Distressed Communities Look-Up Map available at rd.usda.gov/priority-points.

(2) Ensuring all rural residents have equitable access to RD programs and benefits from RD funded projects. Using the Social Vulnerability Index (SVI) Look-Up Map (available at rd.usda.gov/priority-points), an applicant would receive priority points if the project is:

• located in or serving a community with score 0.75 or above on the SVI; or

• a project where at least 50 percent of the project beneficiaries are members of Federally Recognized Tribes and non-Tribal applicants include a Tribal Resolution of Consent from the Tribe or Tribes that the applicant is proposing to serve.

(3) Reducing climate pollution and increasing resilience to the impacts of climate change through economic support to rural communities. Using the Disadvantaged Community and Energy Community Look-Up Map (rd.usda.gov/priority-points), an applicant would receive priority in three ways:

• If the project is located in or serves a Disadvantaged Community as defined by the Climate and Economic Justice Screening Tool (CEJST), from the White House Council on Environmental Quality;

• If the project is located in or serves an Energy Community as defined by the Inflation Reduction Act (IRA); and

• If applicants can demonstrate through a written narrative how the proposed climate-impact projects will improve the livelihoods of community residents and meet pollution mitigation or clean energy goals.

See the website, rd.usda.gov/priority-points, for options.

2. Review and Selection Process. The RD State Offices will review applications to determine if they are eligible for assistance based on requirements in this Notice, and other applicable Federal regulations. If determined eligible, the review panel will convene to reach a consensus on the scores for each of the eligible applications. The Administrator may choose to award up to 10 Administrator discretionary points based on criterion (e) in section E.1 of this Notice. These points will be added to the cumulative score for a total possible score of 110. Applications will be funded in highest ranking order until the funding limitation has been reached. Applications that cannot be fully funded may be offered partial funding at the Agency's discretion. If your application is ranked and not funded, it will not be carried forward into the next competition. The Agency reserves the right to offer the applicant less than the grant funding requested.

F. Federal Award Administration Information

1. Federal Award Notices. Successful applicants will receive notification for funding by electronic mail, containing instructions on requirements necessary to proceed with execution and performance of the award. Applicants must comply with the terms of the award, including meeting all applicable statutes and regulations before the grant award can be approved and funded.

If you are not selected for funding, you will be notified in writing by electronic mail and informed of any review and appeal rights. Funding of successfully appealed applications will be limited to available FY 2024 funding.

2. Administrative and National Policy Requirements. Additional requirements that apply to grantees selected for this program can be found in 2 CFR parts 25, 170, 180, 200, 400, 415, 417, 418, and 421; and 48 CFR 31.2, and successor regulations to these parts. All recipients of Federal financial assistance are required to report information about first tier subawards and executive compensation (see 2 CFR part 170). You will be required to have the necessary processes and systems in place to comply with the Federal Funding Accountability and Transparency Act reporting requirements (see 2 CFR 170.200(b), unless you are exempt under 2 CFR 170.110(b)). These regulations may be obtained at ecfr.gov/cgi-bin/ECFR?page=browse.

The following additional requirements apply to grantees selected for this program:

(a) Execution of an Agency approved Financial Assistance Agreement.

(b) Acceptance of a written Letter of Conditions.

(c) Submission of Form RD 1940-1, Request for Obligation of Funds.

(d) Submission of Certification for Contracts, Grants and Loans.

(e) SF-LLL, Disclosure of Lobbying Activities if applicable.

3. Reporting. After grant approval and through grant completion, you will be required to provide the following:

(a) A SF-425, Federal Financial Report, and a project performance report will be required on a semiannual basis (due 30 working days after the end of the semiannual period). For the purposes of this grant, semiannual periods end on June 30th and December 31st. The project performance reports shall include a comparison of actual accomplishments to the objectives established for that period.

(b) Reasons why established objectives were not met, if applicable.

(c) Reasons for any problems, delays, or adverse conditions, if any, which have affected or will affect attainment of overall project objectives, prevent meeting time schedules or objectives, or preclude the attainment of particular objectives during established time periods. This disclosure shall be accompanied by a statement of the action taken or planned to resolve the situation.

(d) Objectives and timetable established for the next reporting period.

(e) A final project and financial status report within 120 days after the expiration or termination of the grant.

(f) Outcome project performance reports and final deliverables.

(g) An annual audit in accordance with 2 CFR part 200 subpart F unless the recipient expends less than $750,000 during its fiscal year.

G. Federal Awarding Agency Contact(s)

For general questions about this funding opportunity, please contact your USDA RD State Office provided in the ADDRESSES section of this notice. You may also contact Honie Turner, Program Management Division, Direct Programs Branch, Rural Business-Cooperative Service, USDA at (202) 720-1400 or email CPgrants@usda.gov. You are also encouraged to visit the application website for application tools, including an application template, at rd.usda.gov/programs-services/delta-health-care-services-grants.

H. Build America, Buy America Act

Funding to Non-Federal Entities. Awardees that are Non-Federal Entities, defined pursuant to 2 CFR 200.1 as any State, local government, Indian Tribe, Institution of Higher Education, or nonprofit organization, shall be governed by the requirements of section 70914 of the Build America, Buy America Act (BABAA) within the Infrastructure Investment and Jobs Act, Public Law 117-58. Any requests for waiver of these requirements must be submitted pursuant to USDA's guidance available online at usda.gov/ocfo/federal-financial-assistance-policy/USDABuyAmericaWaiver.

I. Other Information

1. Paperwork Reduction Act. Under the Paperwork Reduction Act (44 U.S.C. 3501 et seq.), OMB must approve all “collection of information” as a requirement for “answers to * * * identical reporting or recordkeeping requirements imposed on ten or more persons * * *” (44 U.S.C. 3502(3)(A)). The Agency has concluded that the reporting requirements contained in this rule/funding announcement will involve less than 10 persons and do not require approval under the provisions of the Act.

2. National Environmental Policy Act. All recipients under this Notice are subject to the requirements of 7 CFR part 1970. The Agency will review each grant application to determine its compliance with 7 CFR part 1970. The applicant may be asked to provide additional information or documentation to assist the Agency with this determination.

3. Federal Funding Accountability and Transparency Act. All applicants, in accordance with 2 CFR part 25, must be registered in SAM and have a UEI number as stated in section D.3 of this notice. All recipients of Federal financial assistance are required to report information about first-tier sub-awards and executive total compensation in accordance with 2 CFR part 170.

4. Civil Rights Act. All grants made under this notice are subject to title VI of the Civil Rights Act of 1964 as required by the USDA 7 CFR part 15, subpart A and section 504 of the Rehabilitation Act of 1973, title VIII of the Civil Rights Act of 1968, title IX, Executive Order 13166 (Limited English Proficiency), Executive Order 11246, and the Equal Credit Opportunity Act of 1974.

5. Nondiscrimination Statement. In accordance with Federal civil rights law and U.S. Department of Agriculture (USDA) civil rights regulations and policies, the USDA, its Agencies, offices, and employees, and institutions participating in or administering USDA programs are prohibited from discriminating based on race, color, national origin, religion, sex, gender identity (including gender expression), sexual orientation, disability, age, marital status, family/parental status, income derived from a public assistance program, political beliefs, or reprisal or retaliation for prior civil rights activity, in any program or activity conducted or funded by USDA (not all bases apply to all programs). Remedies and complaint filing deadlines vary by program or incident.

Program information may be made available in languages other than English. Persons with disabilities who require alternative means of communication to obtain program information (e.g., Braille, large print, audiotape, American Sign Language) should contact the responsible Mission Area, agency, or staff office or the 711 Relay Service.

To file a program discrimination complaint, a complainant should complete a Form AD-3027, USDA Program Discrimination Complaint Form, which can be obtained online at usda.gov/sites/default/files/documents/ad-3027.pdf from any USDA office, by calling (866) 632-9992, or by writing a letter addressed to USDA. The letter must contain the complainant's name, address, telephone number, and a written description of the alleged discriminatory action in sufficient detail to inform the Assistant Secretary for Civil Rights (ASCR) about the nature and date of an alleged civil rights violation. The completed AD-3027 form or letter must be submitted to USDA by:

(1) Mail: U.S. Department of Agriculture, Office of the Assistant Secretary for Civil Rights, 1400 Independence Avenue SW, Washington, DC 20250-9410; and

(2) Fax: (833) 256-1665 or (202) 690-7442; or

(3) Email: OAC@usda.gov.

USDA is an equal opportunity provider, employer, and lender.

Kathryn E. Dirksen Londrigan,
Administrator, Rural Business-Cooperative Service, USDA, Rural Development.

[FR Doc. 2024-12874 Filed 6-11-24; 8:45 am]

BILLING CODE 3410-XY-P